DEPARTMENT OF COMMERCE

Foreign-Trade Zones Board

[B-10-2015]

Foreign-Trade Zone 245—Decatur, Illinois; Authorization of Production Activity; Thyssenkrupp Presta Danville, LLC (Camshafts); Danville, Illinois

On February 18, 2015, the Economic Development Corporation of Decatur & Macon County, grantee of FTZ 245, submitted a notification of proposed production activity to the Foreign-Trade Zones (FTZ) Board on behalf of Thyssenkrupp Presta Danville, LLC, within Subzone 245C, in Danville, Illinois.

The notification was processed in accordance with the regulations of the FTZ Board (15 CFR part 400), including notice in the Federal Register inviting public comment (80 FR 9693, 2-24-2015). The FTZ Board has determined that no further review of the activity is warranted at this time. The production activity described in the notification is authorized, subject to the FTZ Act and the Board's regulations, including Section 400.14.

Dated: June 18, 2015.
Elizabeth Whiteman,
Acting Executive Secretary.

[FR Doc. 2015-15475 Filed 6-22-15; 8:45 am]

BILLING CODE 3510-DS-P